DEPARTMENT OF EDUCATION

Office of English Language Acquisition, Language Enhancement, and Academic Achievement for Limited English Proficient Students; Overview Information; National Professional Development Program; Notice inviting applications for new awards for fiscal year (FY) 2007.

Catalog of Federal Domestic Assistance (CFDA) Number: 84.195N

Dates:

Applications Available: December 15, 2006.

Deadline for Notice of Intent to Apply: February 1, 2007.

Deadline for Transmittal of Applications: March 1, 2007.

Deadline for Intergovernmental Review: May 1, 2007.

Eligible Applicants: Institutions of higher education (IHEs) in consortia with State educational agencies (SEAs) or local educational agencies (LEAs).

Note: Eligible applicants seeking to apply as a consortium should read and follow the regulations in 34 CFR 75.127 through 75.129.

Estimated Available Funds: The Administration has requested $38,100,000 for new awards for this program for FY 2007. The actual level of funding, if any, depends on final Congressional action. However, we are inviting applicants to allow enough time to complete the grant process if Congress appropriates funds for this program.

Estimated Range of Awards: $200,000-300,000.

Estimated Average Size of Awards: $257,000.

Estimated Number of Awards: 148.

Note: The Department is not bound by any estimates in this notice.

Project Period: Up to 60 months.

Full Text of Announcement

I. Funding Opportunity Description

Purpose of Program: The purpose of the National Professional Development Program is to provide for professional development activities that will improve classroom instruction for limited English proficient (LEP) children and assist educational personnel working with such children to meet high professional standards, including standards for certification and licensure as teachers who work in language standards for certification and licensure as teachers who work in language instruction education programs or serve LEP children.

Priorities: Under this competition we are particularly interested in applications that address the following priorities.

Invitational Priorities: Under 34 CFR 75.105(c)(1) we do not give an application that meets these invitational priorities a competitive or absolute preference over other applications.

These priorities are as follows:

Invitational Priority #1. Projects designed to improve a teacher education program in order to better prepare all teachers to provide effective instruction to LEP students. In such projects, IHEs would collaborate with both an LEA and SEA on such activities as: (1) professional development to improve the ability of higher education faculty in preparing prospective teachers to teach LEP students, and (2) the development of teacher education curricula that (a) are aligned with State content standards and State English language proficiency standards (b) prepare all teacher candidates in an institution to provide instruction that accelerates LEP students' acquisition of language (including the acquisition of academic language skills), literacy, and content knowledge.

Invitational Priority #2. Projects that conduct post-training assessment and collect post-training data on the effectiveness of program graduates and completers in order to determine the impact of the project on the academic achievement and English language development of LEP students in grades kindergarten through 12.

Invitational Priority #3. Projects that support high-quality professional development for secondary content teachers to help these teachers improve academic achievement and literacy and language development of LEP students, including by preparing teachers to provide instruction that reflections aligned State English language proficiency standards and State content standards and assessments.

Program Authority: 20 U.S.C. 6861.

Applicable Regulations: The Education Department General Administrative Regulations (EDGAR) in 34 CFR parts 74, 75, 77, 79, 80, 81, 82, 84, 85, 86, 97, and 99.

Note: The regulations in 34 CFR part 86 apply to IHEs only.

II. Award Information

Type of Award: Discretionary grants.

Estimated Available Funds; The Administration has requested $38,100,000 for new awards for this program for FY 2007. The actual level of funding, if any, depends on final Congressional action. However, we are inviting applicants to allow enough time to complete the grant process if Congress appropriates funds for this program.

Estimated Range of Awards: $200,000-$300,000.

Estimated Average Size of Awards: $257,000.

Estimated Number of Awards: 148.

Note: The Department is not bound by any estimates in this notice.

Project Period: Up to 60 months.

III. Eligibility Information

1. Eligible Applicant: IHEs in consortia with SEAs or LEAs.

Note: Eligible applicants seeking to apply as a consortium should read and follow the regulations in 34 CFR 75.127 through 75.129.

2. Cost Sharing or Matching: This program does not involve cost sharing or matching.

IV. Application and Submission Information

1. Address to Request Application Package: Patrice Swann, U.S. Department of Education, 550 12th Street, SW., room 10070, Potomac Center Plaza, Washington, DC 20024-6121. Telephone: (202) 245-7130, or by e-mail: patrice.swann@ed.gov.

If you use a telecommunications device for the deaf (TDD), you may call the Federal Relay Service (FRS) at 1-800-877-8339.

Individuals with disabilities may obtain a copy of the application package in an alternative format (e.g., Braille, large print, audiotape, or computer diskette) by contracting the program contact person listed in this section.

2. Content and Form of Application Submission: Requirements concerning the content of an application, together with the forms you must submit, are in the application package for this competition.

Notice of Intent to Apply: The Department will be able to develop a more efficient process for reviewing grant applications if it has a better understanding of the number of entities that intend to apply for funding under this competition. Therefore, the Secretary strongly encourages each potential applicant to notify the Department by sending a short e-mail message indicating the applicant's intent to submit an application for funding. The e-mail does not need to include information regarding the content of the proposed application, only the applicant's intent to submit it. This e-mail notification should be sent to Yvonne Putney-Mathieu at: yvonne.mathieu@ed.gov.

We will consider an application submitted by the deadline date for transmittal of applications, even if the applicant did not provide us notice of its intent to apply.

Page Limit: The application narrative (Part III of the application) is where you, the applicant, address the selection criteria that reviewers use to evaluate your application. You must limit Part III to the equivalent of no more than 30 pages using the following standards.

• A “page” is 8.5″ × 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• The page limit does not apply to Part I, the cover sheet; Part II, the budget section, including the narrative budget justification; Part IV, the assurances and certifications; or the one page abstract. However, you must include all of the application narrative in Part III.

We will reject your application if—

• You apply these standards and exceed the page limit; or

• You apply other standards and exceed the equivalent of the page limit.

3. Submission Dates and Times:

Applications Available: December 15, 2006.

Deadline for Notice of Intent to Apply: February 1, 2007.

Deadline for Transmittal of Applications: March 1, 2007.

Applications for grants under this program may be submitted electronically using the Grants.gov Apply site (Grants.gov), or in paper format by mail or hand delivery. For information (including dates and times) about how to submit your application electronically, or by mail or hand delivery, please refer to section IV.6. Other Submission Requirements in this notice.

We do not consider an application that does not comply with the deadline requirements.

Deadline for Intergovernmental Review: May 1, 2007.

4. Intergovernmental Review: This program is subject to Executive Order 12372 and the regulations in 34 CFR part 79. Information about Intergovernmental Review of Federal programs under Executive Order 12372 is in the application package for this competition.

5. Funding Restrictions: We reference regulations outlining funding restrictions in the Applicable Regulations section of this notice.

6. Other Submission Requirements: Applications for grants under this program may be submitted electronically or in paper format by mail or hand delivery.

a. Electronic Submission of Applications. To comply with the President's Management Agenda, we are participating as a partner in the Governmentwide Grants.gov Apply site. The National Professional Development Program, 84.195N, is included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for the National Professional Development Program at http://www.grants.gov/. You must search for the downloadable application package for this program or competition by the CFDA number. Do not include the CFDA number's alpha suffix in your search (e.g., search for 84.195, not 84.195N).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30 p.m., Washington, DC time, on the application deadline date. Except as otherwise noted in this section, we will not consider your application if it is date and time stamped by the Grants.gov system later than 4:30 p.m., Washington, DC time, on the application deadline date. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants. gov.

• You should review and follow the Education Submission Procedures for submitting an application through Grants.gov that are included in the application package for this competition to ensure that you submit your application in a timely manner to the Grants.gov system. You can also find the Education Submission Procedures pertaining to Grants. gov at http://e-Grants.ed.gov/help/GrantsgovSubmissionProcedures.pdf.

• To submit your application via Grants.gov, you must complete all steps in the Grants.gov registration process (see http://www.grants.gov/applicants/get_registered.jsp). These steps include (1) registering your organization, a multi-part process that includes registration with the Central Contractor Registry (CCR); (2) registering yourself as an Authorized organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition, you will need to update your CCR registration on an annual basis. This may take three or more business days to complete.

• You will not receive additional point value because you submit your application in electronic format, nor will we penalize you if you submit your application in paper format.

• If you submit your application electronically, you must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental information for SF 424—have replaced the ED 424 (Application for Federal Education Assistance).

• If you submit your application electronically, you must attach any narrative sections of your application as files in a .DOC (document), .RTF (rich text), or .PDF (Portable Document format. If you upload a file type other than the three file types specified in this paragraph or submit a password-protected file, we will not review that material.

• Your electronic application must comply with any page-limit requirements described in this notice.

• After you electronically submit your application, you will receive from Grants.gov an automatic notification of receipt that contains a Grant.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed elsewhere in this notice under FOR FURTHER INFORMATION CONTACT and provide an explanation of the technical problem you experienced with Grants.gov, along with the Grants.gov Support Desk Case Number. We will accept your application if we can confirm that a technical problem occurred with the Grants.gov system and that problem affected your ability to submit your application by 4:30 p.m., Washington, DC time, on the application deadline date. The Department will contact you after a determination is made on whether your application will be accepted.

Note: The extensions to which we refer in this section apply only to the unavailability of, or technical problems with, the Grants.gov system. we will not grant you an extension if you failed to fully register to submit your application to Grants.gov before the application deadline date and time or if the technical problem you experienced is unrelated to the Grants.gov system.

b. Submission of Paper Applications by Mail. If you submit your application in paper format by mail (through the U.S. Postal Service or a commercial carrier), you must mail the original and two copies of your application, on or before the application deadline date, to the Department at the applicable following address:

By mail through the U.S. Postal Service: U.S. Department of Education, Application Control Center, Attention: CFDA 84.195 N, 400 Maryland Avenue, SW., Washington, DC 20202-4260; or

By mail through a commercial carrier: U.S. Department of Education, Application Control Center, Stop 4260, Attention: CFDA Number 84.195 N, 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery. If you submit your application in paper format by hand delivery, you (or a courier service) must deliver the original and two copies of your application by hand, on or before the application deadline date, to the Department at the following address: U.S. Department of Education, Application Control Center, Attention: (CFDA Number 84.195 N), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department—

(1) you must indicate on the envelope and—if not provided by the Department—in Item 11 of the SF 424, the CFDA number, including suffix letter, if any, of the competition under which you are submitting your application; and

(2) The Application Control Center will mail to you a notification of receipt of your grant application. If you do not receive this notification within 15 business days from the application deadline, you should call the U.S. Department of Education Application Control Center at (202) 245-6288.

Selection Criteria: The selection criteria for this competition are from 34 CFR 75.210 of EDGAR. The maximum score for all of these criteria is 100 points. The maximum score for each criterion is indicated in parentheses.

(a) Need for project. (5 points)

The Secretary considers the need for the proposed project. In determining the need for the proposed project, the Secretary considers the following factors:

(1) The extent to which the proposed project will provide services or otherwise address the needs of students at risk of educational failure.

(2) The extent to which specific gaps or weaknesses in services, infrastructure, or opportunities have been identified and will be addressed by the proposed project, including the nature and magnitude of those gaps and weaknesses.

(3) The extent to which the proposed project will prepare personnel for fields in which shortages have been demonstrated.

(b) Quality of the project design. (50 points)

The Secretary considers the quality of the design of the proposed project. In determining the quality of the design of the proposed project, the Secretary considers the following factors:

(1) The extent to which the goals, objectives, and outcomes to be achieved by the proposed project are clearly specified and measurable.

(2) The extent to which the design of the proposed project is appropriate to, and will successfully address, the needs of the target population or other identified needs.

(3) The extent to which the design of the proposed project reflects up-to-date knowledge from research and effective practice.

(4) The extent to which the proposed project is part of a comprehensive effort to improve teaching and learning and to support rigorous academic standards for students.

(5) The extent to which the proposed project is designed to build capacity and yield results that will extend beyond the period of Federal financial assistance.

(c) Quality of project personnel. (5 Points)

The Secretary considers the quality of the personnel who will carry out the proposed project.

(1) In determining the quality of project personnel, the Secretary considers the extent to which the applicant encourages applications for employment from persons who are members of groups that have traditionally been underrepresented based on race, color, national origin, gender, age, or disability.

(2) The qualifications, including relevant training and experience, of the project director or principal investigator.

(3) The qualifications, including relevant training and experience, of key personnel.

(d) Quality of the management plan. (10 points)

The Secretary considers the quality of the management plan for the proposed project. In determining the quality of the management plan for the proposed project, the Secretary considers the following factors:

(1) The adequacy of the management plan to achieve the objectives of the proposed project on time and within budget, including clearly defined responsibilities, timelines, and milestones for accomplishing project tasks.

(2) The extent to which the time commitments of the project director and other key project personnel are appropriate and adequate to meet the objectives of the proposed project.

(3) The adequacy of procedures for ensuring feedback and continuous improvement in the operation of the proposed project.

(e) Quality of the project evaluation. (30 points)

The Secretary considers the quality of the evaluation to be conducted of the proposed project. In determining the quality of the evaluation, the Secretary considers the following factors:

(1) The extent to which the methods of evaluation are thorough, feasible, and appropriate to the goals, objectives, and outcomes of the proposed project.

(2) The extent to which the methods of evaluation include the use of objective performance measures that are clearly related to the intended outcomes of the project and will produce quantitative and qualitative data to the extent possible.

(3) The extent to which the methods of evaluation provide for examining the effectiveness of project implementation strategies.

(4) The extent to which the methods of evaluation will provide performance feedback and permit periodic assessment of progress toward achieving intended outcomes.

VI. Award Administration Information

(1) Award Notices: If your application is successful, we notify your U.S. Representative and U.S. Senators and send you a Grant Award Notification (GAN). We may also notify you informally.

If your application is not evaluated or not selected for funding, we notify you.

(2) Administrative and National Policy Requirements: We identify administrative and national policy requirements in the application package and reference these and other requirements in the Applicable Regulations section of this notice. We reference the regulations outlining the terms and conditions of an award in the Applicable Regulations section of this notice and include these and other specific conditions in the GAN. The GAN also incorporates your approved application as part of your binding commitments under the grant.

(3) Reporting: At the end of your project period, you must submit a final performance report, including financial information, as directed by the Secretary. If you receive a multi-year award, you must submit an annual performance report that provides the most current performance and financial expenditure information as specified by the Secretary in CFR 75.118.

(4) Performance Measures: In response to the Government Performance and Results Act (GPRA), the Department developed three quantitative measures for evaluating the overall effectiveness of the NPD Program. We will expect each IHE, in consortium with its partnering LEA or SEA, that carries out a project funded under this competition to document the extent to which the project is achieving against these performance measures. These measures are:

(1) The percentage of pre-service program graduates who are placed in instructional settings serving limited English proficient students within one year of graduation.

(2) The percentage of pre-service program graduates who meet NCLB Highly Qualified Teacher requirements.

(3) The percentage of in-service teacher completers who are providing instructional services to limited English proficient students.

Grantees will be expected to report on progress in meeting these performance measures for the NPD Program in their Annual Performance Report and in their Final Performance Report.

In addition to the GPRA measures, the Department has developed two additional measures, program measures, used to help monitor the effectiveness of the NPD Program. We will expect each IHE, in consortium with its partnering LEA or SEA, that carries out a project funded under this competition to document the extent to which the project is helping the Department meet these program measures. These measures are:

(1) The effectiveness of graduates/completers in the instructional meeting.

(2) The degree to which IHE pre-service and in-service training programs are aligned with K-12 State standards and assessments, including English language proficiency standards and content standards.

Grantees will be expected to report on progress in meeting these performance measures for the NPD Program in their Annual Performance Report and in their Final Performance Report.

VII. Agency Contact

For Further Information Contact: Ana Garcia, U.S. Department of Education, Potomac Center Plaza, 550 12th Street, SW., Room 10072, Washington, DC 20024-6121. (202) 245-7153. ana.garcia@ed.gov; or

Trini Torres-Carrion, U.S. Department of Education, Potomc Center Plaza, 550 12th Street, SW., Room 10082, Washington, DC 20024-6121. (202) 245-7134. trinidad.torres-carrier@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.htm1.

Dated: December 12, 2006.
Kathleen Leos,
Assistant Deputy Secretary and Director, Office of English Language Acquisition, Language Enhancement and Academic Achievement for Limited English Proficient Students.

[FR Doc. 06-9726 Filed 12-14-06; 8:45 am]

BILLING CODE 4000-01-M